FEDERAL TRADE COMMISSION

16 CFR Part 303

Rules and Regulations Under the Textile Fiber Products Identification Act

AGENCY: Federal Trade Commission (“FTC” or “Commission”).

ACTION: Extension of the deadline for filing public comments.

SUMMARY: The Commission grants a thirty (30) day extension until February 2, 2012 for filing public comments in response to the Commission's Advance Notice of Proposed Rulemaking and request for public comment published on November 7, 2011 (“ANPR”).

DATES: Comments must be received on or before February 2, 2012.

ADDRESSES: Interested parties may file a comment online or on paper, by following the instructions in the Request for Comment part of the SUPPLEMENTARY INFORMATION section below. Write “Textile Rules, 16 CFR Part 303, Project No. P948404” on your comment, and file your comment online at https://ftcpublic.commentworks.com/ftc/textilerulesanpr by following the instructions on the web-based form. If you prefer to file your comment on paper, mail or deliver your comment to the following address: Federal Trade Commission, Office of the Secretary, Room H-113 (Annex G), 600 Pennsylvania Avenue NW., Washington, DC 20580.

FOR FURTHER INFORMATION CONTACT: Robert M. Frisby, Attorney, (202) 326-2098, or Edwin Rodriguez, Attorney, (202) 326-3147, Division of Enforcement, Bureau of Consumer Protection, Federal Trade Commission, 600 Pennsylvania Avenue NW., Washington, DC 20580.

SUPPLEMENTARY INFORMATION: On November 7, 2011, the Commission published its ANPR (76 FR 68690) seeking comment on the overall costs, benefits, necessity, and regulatory and economic impact of the Commission's Rules and Regulations under the Textile Fiber Products Identification Act (“Textile Rules”).¹ The ANPR designated January 3, 2012, as the deadline for filing public comments.

¹ The Commission issued the Textile Rules to implement the Textile Fiber Products Identification Act, 15 U.S.C. 70-70k.

On December 20, 2011, the American Apparel and Footwear Association, the American Fiber Manufacturers Association, Inc., the Canadian Apparel Federation, the National Retail Federation, the Retail Industry Leaders Association, and the U.S. Association of Importers of Textiles and Apparel requested that the Commission extend the comment period for thirty (30) days until February 2, 2012. These six trade associations represent apparel retailers, consumer brand companies, importers, and manufacturers that have a substantial interest in the operation and enforcement of the Textile Rules' labeling provisions. They state that, to provide useful comments to the Commission, they need sufficient time to consult with and to solicit information from their member companies. They explain that the relevant executives have been largely unavailable for consultation during the November-December holiday season because it is the busiest time of year for their companies. Therefore, they request a thirty (30) day extension of the current deadline to February 2, 2012.

The input of these trade associations would likely assist the Commission in evaluating the Textile Rules' effectiveness and determining whether and how to amend the Rules. Moreover, the requested short extension of the comment period will not substantially delay the rulemaking process. The Commission recognizes that its ANPR requests comments on complex issues and believes that extending the comment period to facilitate a more complete record outweighs any harm that might result from a thirty (30) day delay. Accordingly, the Commission is extending the comment period for thirty (30) days until February 2, 2012.

By direction of the Commission.
Richard C. Donohue,
Acting Secretary.

[FR Doc. 2011-33695 Filed 1-3-12; 8:45 am]

BILLING CODE 6750-01-P